Title 3—

The President

Proclamation 8107 of February 26, 2007

Irish-American Heritage Month, 2007

By the President of the United States of America

A Proclamation

The friendship between Ireland and the United States has deep roots, and Irish Americans have played an integral role in making our country a place of hope and opportunity. During Irish-American Heritage Month, we recognize the vital contributions of Irish Americans to our Nation.

Since our founding, Irish immigrants have come to America's shores in search of better lives. Today, millions of American citizens are of Irish descent, and they and their forbearers have helped shape our way of life, strengthened our economy, and contributed to the arts, and protected our Nation. Irish Americans have shown their devotion to our country by serving in our Armed Forces. America is especially grateful to these brave men and women for the sacrifices that have helped preserve the ideals of our country and made the world a safer place.

During the month of March, we reflect on our Nation's past and how Irish Americans helped create the country we live in today. America is a melting pot of cultures, and Irish-American Heritage Month is an opportunity to celebrate the accomplishments of Irish-American citizens and remind our people we are blessed to be a Nation of immigrants.

NOW, THEREFORE, I, GEORGE W. BUSH, President of the United States of America, by virtue of the authority vested in me by the Constitution and laws of the United States, do hereby proclaim March 2007 as Irish-American Heritage Month. I call upon all Americans to observe this month by celebrating the contributions of Irish Americans to our Nation.

IN WITNESS WHEREOF, I have hereunto set my hand this twenty-sixth day of February, in the year of our Lord two thousand seven, and of the Independence of the United States of America the two hundred and thirty-first.

[FR Doc. 07-984

Filed 2-28-07; 9:35 am]

Billing code 3195-01-P